DEPARTMENT OF TRANSPORTATION

Surface Transportation Board

[Docket No. FD 35827]

Union Pacific Railroad Company—Temporary Trackage Rights Exemption—Dallas Area Rapid Transit and Fort Worth Transportation Authority

Trinity Railway Express (TRE),¹ pursuant to a written trackage rights agreement dated May 2, 2014, has agreed to grant Union Pacific Railroad Company (UP) temporary overhead trackage rights over approximately 1.4 miles of the TRE Rail Corridor in Ft. Worth, Tex., between milepost 610.5 (the T&P Station) and milepost 611.9 (the 6th Street Junction).

¹ Dallas Area Rapid Transit (DART) and the Fort Worth Transportation Authority (the T) are regional transportation authorities established under Chapter 452 of the Texas Transportation Code. See Dall. Area Rapid Transit—Acquis. & Operation Exemption—Certain Lines of the Atchison, Topeka & Santa Fe Ry., FD 32611 (ICC served Mar. 17, 1995). DART and the T are collectively referred to as Trinity Railway Express.

The transaction may be consummated on or after June 7, 2014, the effective date of the exemption (30 days after the verified notice of exemption was filed). The temporary trackage rights are scheduled to expire on December 30, 2014. The purpose of the temporary trackage rights is to allow UP to continue providing rail service between adjacent UP lines during outages on connecting UP lines caused by construction of improvements to Tower 55.

As a condition to the exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

The verified notice of exemption is filed under 49 CFR 1180.2(d)(8). If it contains false or misleading information, the exemption is void ab initio. Petitions to revoke the exemption under 49 U.S.C. 10502(d) may be filed at any time. The filing of a petition to revoke will not automatically stay the effectiveness of the exemption. Petitions for stay must be filed no later than May 30, 2014 (at least seven days before the exemption becomes effective).

An original and 10 copies of all pleadings, referring to Docket No. FD 35827, must be filed with the Surface Transportation Board, 395 E Street SW., Washington, DC 20423-0001. In addition, a copy of each pleading must be served on Jeremy Berman, 1400 Douglas Street, Union Pacific Railroad Company, STOP 1580, Omaha, NE 68179.

Board decisions and notices are available on our Web site at “WWW.STB.DOT.GOV.”

Decided: May 19, 2014.
By the Board,
Rachel D. Campbell,
Director, Office of Proceedings.
Raina S. White,
Clearance Clerk.

[FR Doc. 2014-11985 Filed 5-22-14; 8:45 am]

BILLING CODE 4915-01-P